DEPARTMENT OF TRANSPORTATION

Office of the Secretary

49 CFR Parts 7, 10, and 40

[Docket No. OST-2009-0173]

RIN 2105-AD82

OST Technical Corrections

AGENCY: Office of the Secretary (OST), Department of Transportation (DOT).

ACTION: Final rule.

SUMMARY: DOT is making corrections to amendments to a number of its regulations that were published in the Federal Register on June 12, 2008 (73 FR 33326-30) to reflect reorganization of some elements of DOT and the move of DOT's Headquarters site in Washington, DC.

DATES: The amendments are effective February 2, 2010.

FOR FURTHER INFORMATION CONTACT: Robert I. Ross, Office of the General Counsel, C-60, Room W96-314, Department of Transportation, 1200 New Jersey Avenue, SE., Washington, DC 20590; telephone 202.366.9156; fax 202.366.9170; e-mail: bob.ross@dot.gov.

SUPPLEMENTARY INFORMATION: These corrections affect the following:

1. DOT moved its Headquarters in Washington, DC to a new site.

2. The Chief Information Officer has replaced the Assistant Secretary for Administration as the DOT Chief Privacy Officer.

3. A mistake was made in the definition of “Department” in our Freedom of Information regulations.

4. The list of exemptions in our Freedom of Information regulations are reorganized and corrected to reflect the transfer of motor carrier safety oversight from the Federal Highway Administration to the Federal Motor Carrier Safety Administration.

Since this amendment relates to departmental management, organization, procedure, and practice, notice and comment are unnecessary under 5 U.S.C. 553(b). Further, since the amendment expedites the Department's ability to meet the statutory intent of the applicable laws and regulations covered by this delegation, I find good cause under 5 U.S.C. 553(d)(3) for the final rule to be effective on the date of publication in the Federal Register.

Regulatory Analyses and Notices

A. Executive Order 12866 and DOT Regulatory Policies and Procedures

This final rule is not considered a significant regulatory action under Executive Order 12866 and DOT Regulatory Policies and Procedures (44 FR 11034). It was not reviewed by the Office of Management and Budget. There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

Because no notice of proposed rulemaking is required for this rule under the Administrative Procedure Act, 5 U.S.C. 553, the provisions of the Regulatory Flexibility Act (5 U.S.C. 601 et seq.) do not apply. We also do not believe this rule would impose any costs on small entities because it simply delegates authority from one official to another and makes other nonsubstantive corrections. Therefore, I certify this final rule will not have a significant economic impact on a substantial number of small entities.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects

49 CFR Part 7

Freedom of information, Reporting and recordkeeping requirements.

49 CFR Part 10

Penalties, Privacy.

49 CFR Part 40

Administrative practice and procedure, Drug testing, Laboratories, Reporting and recordkeeping requirements, Safety, Transportation.

For the reasons discussed in the preamble, Subtitle A of title 49, Code of Federal Regulations, is amended as follows:

PART 7—PUBLIC AVAILABILITY OF INFORMATION

1. The authority citation for part 7 continues to read as follows:

Authority: 5 U.S.C. 552; 31 U.S.C. 9701; 49 U.S.C. 322; E.O. 12600; 3 CFR, 1987 Comp., p. 235.

2. In Section 7.2, the introductory text of the definition of ‘Department' is revised to read as follows:

§ 7.2 Definitions.

* * * * *

Department means the Department of Transportation, including the Office of the Secretary, the Office of Inspector General, and the following DOT Operating Administrations, all of which may be referred to as DOT components. Means of contacting each of these DOT components appear in § 7.15. This definition specifically excludes the Surface Transportation Board, which has its own FOIA regulations (49 CFR Part 1001):

* * * * *

PART 10—MAINTENANCE OF AND ACCESS TO RECORDS PERTAINING TO INDIVIDUALS

3. The authority citation for part 10 continues to read as follows:

Authority: 5 U.S.C. 552a; 49 U.S.C. 322.

§ 10.77 [Amended]

4. In § 10.77, paragraph (c) is amended by removing ‘Assistant Secretary for Administration' and replacing it with ‘Chief Information Officer'.

5. In Appendix to Part 10—Exemptions, paragraph A of Part II is amended by removing paragraphs 3. through 12., and adding new paragraphs 3. through 7. to read as follows:

Appendix to Part 10—Exemptions

* * * * *

Part II. Specific Exemptions

A. * * *

3. Federal Motor Carrier Safety Administration (FMCSA) Enforcement Management Information System, maintained by the Chief Counsel, FMCSA (DOT/FMCSA 002).

4. DOT/NHTSA Investigations of Alleged Misconduct or Conflict of Interest, maintained by the Associate Administrator for Administration, National Highway Traffic Safety Administration (DOT/NHTSA 458).

5. Civil Aviation Security System (DOT/FAA 813), maintained by the Office of Civil Aviation Security Policy and Planning, Federal Aviation Administration.

6. Suspected Unapproved Parts (SUP) Program, maintained by the Federal Aviation Administration (DOT/FAA 852).

7. Motor Carrier Management Information System (MCMIS), maintained by the Federal Motor Carrier Safety Administration (DOT/FMCSA 001).

* * * * *

PART 40—PROCEDURES FOR TRANSPORTATION WORKPLACE DRUG AND ALCOHOL TESTING PROGRAMS

§ 40.213 [Amended]

6. In § 40.213(a), remove the words, “400 7th Street, SW., Room 10403” and add, in their place, the words “1200 New Jersey Avenue, SE.”.

Issued under authority delegated in 49 CFR 1.57(j) at Washington, DC, on January 19, 2010.
Robert S. Rivkin,
General Counsel, Department of Transportation.

[FR Doc. 2010-1657 Filed 2-1-10; 8:45 am]

BILLING CODE 4910-9X-P